DEPARTMENT OF LABOR

Employment and Training Administration

Agency Information Collection Activities; Comment Request

ACTION: Notice.

SUMMARY: The Department of Labor's (DOL) Employment and Training Administration (ETA) is soliciting comments concerning a proposed extension for the authority to conduct the information collection request (ICR) titled, “Form ETA-750A and Form ETA-750B, Application for Alien Certification.” This comment request is part of continuing Departmental efforts to reduce paperwork and respondent burden in accordance with the Paperwork Reduction Act of 1995 (PRA).

DATES: Consideration will be given to all written comments received by June 1, 2020.

ADDRESSES: A copy of this ICR with applicable supporting documentation, including a description of the likely respondents, proposed frequency of response, and estimated total burden, may be obtained for free by contacting Brian Pasternak, Administrator, Office of Foreign Labor Certification, by telephone at 202-513-7350 (this is not a toll-free number), TTY 1-877-889-5627 (this is not a toll-free number), or by email at ETA.OFLC.Forms@dol.gov.

Submit written comments about, or requests for a copy of, this ICR by mail or courier to the U.S. Department of Labor, Employment and Training Administration, Office of Foreign Labor Certification, 200 Constitution Avenue NW, Box PPII 12-200, Washington, DC 20210; by email: ETA.OFLC.Forms@dol.gov; or by fax: 202-513-7395.

FOR FURTHER INFORMATION CONTACT: Brian Pasternak, Administrator, Office of Foreign Labor Certification, by telephone at 202-513-7350 (this is not a toll-free number) or by email at ETA.OFLC.Forms@dol.gov.

SUPPLEMENTARY INFORMATION: DOL, in its continuing efforts to reduce paperwork and respondent burden, conducts a pre-clearance consultation program to provide the general public and Federal agencies an opportunity to comment on proposed and/or continuing collections of information before submitting them to the Office of Management and Budget (OMB) for final approval. This program ensures the public provides all necessary data in the desired format, the reporting burden (time and financial resources) is minimized, the collection instruments are clearly understood, and the impact of collection requirements can be properly assessed.

Under the Immigration and Nationality Act (INA) § 212(a)(5)(A), the Secretary of Labor must certify that any foreign worker seeking to permanently enter the United States to perform skilled or unskilled labor under an employment-based visa will not adversely affect the wages and working conditions of U.S. workers similarly employed and that there are not sufficient U.S. workers able, willing, qualified, and available to perform such labor. Before an employer may request any skilled or unskilled foreign labor under this section, it must submit a request for certification to the Secretary of Labor. In limited circumstances, a foreign national without an employer sponsor may apply for a waiver of the job offer requirement with the Department of Homeland Security (DHS) as provided in the INA § 203(b)(2)(B)(i) on the ground that the waiver is in the national interest, which allows foreign workers to self-petition and, where appropriate, enter without a labor certification.

DOL uses Form ETA-750A, Application for Alien Employment Certification, (OMB Control Number 1205-0015) to process applications for permanent employment certification, specifically related to the processing of professional athletes. Form ETA-750A collects information that, when appropriate, permits DOL to certify that the admission of a foreign professional athlete meets the requirements of Section 212(a)(5)(A). Section 212(a)(5)(A)(iii) of the INA deals specifically with professional athletes coming to the United States on a permanent basis as immigrants.

Through Form ETA-750B, Application for Alien Employment Certification, DOL collects biographical information concerning the education, work history, and personal details of a professional athlete on whose behalf an application for permanent labor certification is filed. DHS also collects information on the Form ETA-750B, pursuant to 8 CFR 204.5(k)(4)(ii) for foreign workers applying for the National Interest Waivers of the job offer requirement under the INA § 203(b)(2)(B)(i). 8 U.S.C. 1153(b)(2)(B)(i), § 1182(a)(5)(A)) and 8 Code of Federal Regulation (CFR) 204.5(k)(4)(ii) authorizes this information collection.

This information collection is subject to the PRA. A Federal agency generally cannot conduct or sponsor a collection of information, and the public is generally not required to respond to an information collection unless OMB, under the PRA, approves it and the collection tool displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB Control Number 1205-0015.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

Agency: DOL-ETA.

Type of Review: Extension Without Changes.

Title of Collection: Form ETA-750A, Application for Alien Employment Certification and Form ETA-750B, Application for Alien Employment Certification.

Form: Form ETA-750A and Form ETA-750B.

OMB Control Number: 1205-0015.

Estimated Number of Respondents:

Form ETA-750A—86.6.

Form ETA-750B—9,558.

Frequency: On Occasion.

Total Estimated Annual Responses: 9,644.6.

Estimated Average Time per Response:

Form ETA-750A—2.8 hours.

Form ETA-750B—1.8 hours.

Estimated Total Annual Burden Hours: 17,446.88.

Total Estimated Annual Other Costs Burden: $0.

(Authority: 44 U.S.C. 3506(c)(2)(A))

John Pallasch,
Assistant Secretary for Employment and Training.

[FR Doc. 2020-06875 Filed 4-1-20; 8:45 am]

BILLING CODE 4510-FP-P